DEPARTMENT OF COMMERCE

National Oceanic and Atmospheric Administration

RIN 0648-XC409

Fisheries of the South Atlantic; Southeast Data, Assessment and Review (SEDAR); Data Webinar for South Atlantic Gray Triggerfish (Balistes capriscus) and Blueline Tilefish (Caulolatilus microps)

AGENCY: National Marine Fisheries Service (NMFS), National Oceanic and Atmospheric Administration (NOAA), Commerce.

ACTION: Notice of SEDAR 32 data webinar for South Atlantic gray triggerfish and blueline tilefish.

SUMMARY: The SEDAR 32 assessments of the South Atlantic stocks of gray triggerfish and blueline tilefish will consist of: A Data Workshop; a series of Assessment Webinars; and a Review Workshop. This notice is for a webinar associated with the Data portion of the SEDAR process. See SUPPLEMENTARY INFORMATION.

DATES: The SEDAR 32 data Webinar will be held on January 16, 2013, from 1 p.m. until 5 p.m. The established time may be adjusted as necessary to accommodate the timely completion of discussion relevant to the data workshop process. Such adjustments may result in the meeting being extended from, or completed prior to, the time established by this notice.

ADDRESSES: The meeting will be held via Webinar. The Webinar is open to members of the public. Those interested in participating should contact Julia Byrd at SEDAR (see Contact Information) to request an invitation providing webinar access information.

FOR FURTHER INFORMATION CONTACT: Julia Byrd, SEDAR Coordinator, 4055 Faber Place, Suite 201, North Charleston, SC 29405; phone (843) 571-4366. Email: julia.byrd@safmc.net.

SUPPLEMENTARY INFORMATION: The Gulf of Mexico, South Atlantic, and Caribbean Fishery Management Councils, in conjunction with NOAA Fisheries and the Atlantic and Gulf States Marine Fisheries Commissions, have implemented the Southeast Data, Assessment and Review (SEDAR) process, a multi-step method for determining the status of fish stocks in the Southeast Region. SEDAR is a three-step process including: (1) A Data Workshop; (2) an Assessment Process utilizing Webinars; and (3) a Review Workshop. The product of the Data Workshop is a data report which compiles and evaluates potential datasets and recommends which datasets are appropriate for assessment analyses. The product of the Assessment Process is a stock assessment report which describes the fisheries, evaluates the status of the stock, estimates biological benchmarks, projects future population conditions, and recommends research and monitoring needs. The assessment is independently peer reviewed at the Review Workshop. The product of the Review Workshop is a Summary documenting panel opinions regarding the strengths and weaknesses of the stock assessment and input data. Participants for SEDAR Workshops are appointed by the Gulf of Mexico, South Atlantic, and Caribbean Fishery Management Councils and NOAA Fisheries Southeast Regional Office, Highly Migratory Species (HMS) Management Division, and Southeast Fisheries Science Center. Participants include data collectors and database managers; stock assessment scientists, biologists, and researchers; constituency representatives including fishermen, environmentalists, and non-governmental organizations (NGOs); international experts; and staff of Councils, Commissions, and state and federal agencies.

SEDAR 32 Data Webinar: Participants will present summary data, and discuss data needs and treatments.

Special Accommodations

These meetings are physically accessible to people with disabilities. Requests for sign language interpretation or other auxiliary aids should be directed to the Council office (see ADDRESSES) at least ten (10) business days prior to the meeting.

Dated: December 17, 2012.
Tracey L. Thompson,
Acting Deputy Director, Office of Sustainable Fisheries, National Marine Fisheries Service.

[FR Doc. 2012-30727 Filed 12-20-12; 8:45 am]

BILLING CODE 3510-22-P